DEPARTMENT OF THE INTERIOR

National Park Service

Notice of Extension of Concession Contracts

AGENCY: National Park Service, Interior.

ACTION: Public notice.

DATES: Effective Date: October 1, 2007.

FOR FURTHER INFORMATION CONTACT: Jo A. Pendry, Concession Program Manager, National Park Service, Washington, DC 20240, Telephone 202/513-7156.

SUMMARY: Pursuant to 36 CFR 51.23, public notice is hereby given that the National Park Service proposes to extend the following expiring concession contracts for a period of up to 1 year, or until such time as a new contract is executed, whichever occurs sooner.

SUPPLEMENTARY INFORMATION: All of the listed concession authorizations will expire by their terms on or before September 30, 2007. The National Park Service has determined that the proposed short-term extensions are necessary in order to avoid interruption of visitor services and has taken all reasonable and appropriate steps to consider alternatives to avoid such interruption.

Concession
Contract number | Concessioner name | Park
LARO003-92 | Colville Tribal Enterprise Corporation | Lake Roosevelt National Recreation Area.
STLI003-89 | ARAMARK Sports and Entertainment Services, Inc | Statue of Liberty National Monument.
ISRO002-02 | Forever NPC Resorts, LLC | Isle Royale National Park.
GRSM001-07 | Cades Cove Campground Store, Inc | Great Smoky Mountains National Park.

Dated: October 3, 2007.
Katherine H. Stevenson,
Acting Assistant Director, Business Services.

[FR Doc. 07-5923 Filed 12-3-07; 8:45 am]

BILLING CODE 4312-53-M